DEPARTMENT OF HOMELAND SECURITY

Coast Guard

33 CFR Part 117

[Docket No. USCG-2012-0702]

Drawbridge Operation Regulations; Gallants Channel, Beaufort, NC

AGENCY: Coast Guard, DHS.

ACTION: Notice of temporary deviation from regulations.

SUMMARY: The Commander, Fifth Coast Guard District, has issued a temporary deviation from the regulations governing the operation of the US 70 (Grayden Paul) Bridge, at mile 0.1, over Gallants Channel, at Beaufort, NC. The deviation restricts the operation of the draw span and is necessary to accommodate the Neuse River Keeper Foundation Sprint Triathlon.

DATES: This deviation is effective 12:30 p.m. until 3 p.m. on Saturday, September 29, 2012.

ADDRESSES: Documents mentioned in this preamble as being available in the docket USCG-2012-0702 and are available online by going to http://www.regulations.gov, inserting USCG-2012-0702 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renne V. Wright, Program Manager, Docket Operations, (202)366-9826.

SUPPLEMENTARY INFORMATION: The North Carolina Department of Transportation who owns and operates this bascule-type drawbridge, on behalf of the Coastal Society, has requested a temporary deviation from the operating regulations to accommodate the Neuse River Keeper Foundation Sprint Triathlon.

Under the current operating regulations set out in 33 CFR 117.823, the draw of the US 70 (Grayden Paul) Bridge, at mile 0.1, over Gallants Channel, at Beaufort, NC opens as follows: From 6 a.m. to 10 p.m., the draw need only open on the hour and on the half hour; except that Monday through Friday the bridge need not open between the hours of 6:30 a.m. to 8 a.m. and 4:30 p.m. to 6 p.m.; and from 10 p.m. to 6 a.m., the bridge will open on signal.

In the closed position to vessels, the US 70 (Grayden Paul) Bridge has a vertical clearance of 13 feet above mean high water.

Under this temporary deviation, the drawbridge will be closed to vessels requiring an opening from 12:30 p.m. to 3 p.m. on Saturday, September 29, 2012. There are no alternate routes for vessels transiting this section of Gallants Channel and the drawbridge will be able to open in the event of an emergency.

The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the draw must return to its original operating schedule immediately at the end of the designated time period. This deviation from the operating regulations is authorized under 33 CFR 117.35.

Dated: July 23, 2012.
Waverly W. Gregory, Jr.,
Bridge Program Manager, Fifth Coast Guard District.

[FR Doc. 2012-18700 Filed 7-30-12; 8:45 am]

BILLING CODE 9110-04-P